DEPARTMENT OF HEALTH AND HUMAN SERVICES

National Institutes of Health

National Heart, Lung, and Blood Institute; Amended Notice of Meeting

Notice is hereby given of a change in the meeting of the National Heart, Lung, and Blood Advisory Council, June 11, 2025, 10:20 a.m. to June 11, 2025, 4 p.m., Porter Neuroscience Research Center, Building 35A, Bethesda, MD 20892 which was published in the Federal Register on April 2, 2025, 90 FR 14453.

The National Heart, Lung, and Blood Advisory Council open meeting is being amended due to a change in the meeting format from virtual to regular. The new meeting location is located at the Porter Neuroscience Research Center, Building 35A, 35A Convent Drive, Bethesda, MD 20892. The meeting is partially Closed to the public.

Dated: May 13, 2025.
Bruce A. George,
Program Analyst, Office of Federal Advisory Committee Policy.

[FR Doc. 2025-08827 Filed 5-16-25; 8:45 am]

BILLING CODE 4140-01-P